DEPARTMENT OF DEFENSE

Department of the Army, Corps of Engineers

Proposal To Reissue and Modify Nationwide Permits; Notice

AGENCY: Army Corps of Engineers, DoD.

ACTION: Extension of comment period.

SUMMARY: In the August 9, 2001, issue of the Federal Register (66 FR 42070) the Corps of Engineers (Corps) announced that it was soliciting comments for the reissuance of the proposed Nationwide Permits (NWPs), General Conditions, and definitions with some modifications. The notice announced that comments must be received by September 24, 2001. We have received several requests to extend the comment period, which ends September 24, 2001. To ensure ample opportunity to review the proposed NWPs and to provide meaningful comments, we are extending the comment period 15 days to October 9, 2001.

DATES: Comments must be received by October 9, 2001.

ADDRESSES: Send comments to HQUSACE, ATTN: CECW-OR, 441 “G” Street, NW., Washington, DC 20314-1000.

FOR FURTHER INFORMATION CONTACT: Rich White at (202) 761-4599 or access the U.S. Army Corps of Engineers Regulatory Home Page at: http//:www.usace.army.mil/inet/functions/cw/cecwo/reg/.

SUPPLEMENTARY INFORMATION: The Nationwide Permits (NWPs) expire on February 11, 2002, except the NWPs issued in 2000 which expire on June 7, 2005. We are extending the comment period to allow additional time to submit comments on the NWPs, due to the recent tragic events in New York and Washington. This extension would reduce an already tight schedule to develop the final NWPs. Therefore, we have determined that it is necessary to return to the 60 day time period for the states to complete their decisions on issuance of 401 water quality certifications pursuant to the Clean Water Act, and their decisions to agree or disagree with our decisions regarding compliance with the state Coastal Zone Management Plans pursuant to the Coastal Zone Management Act. This time period is from the date of the publication of the final NWPs until the date the NWPs become effective. Historically, this time period has been 60 days, except for the 401/CZM decision processes for the 2000 replacement NWPs, when we provided a 90-day time period. Due to the major changes involved in the 2000 replacement NWPs, we believed that the extra time was warranted in that instance. We had hoped to continue with the 90 day time period; however, the development of the proposed modifications to the NWPs took longer than expected. Further, the current proposal has very few changes to the existing NWPs; therefore, the states should be able to accomplish their review in a 60-day time period. For these reasons, along with the extension of the comment period, we need to return to the standard 60 day time period for the states' decision on the currently proposed NWPs. For those states that are unable to complete their 401/CZM decisions by the effective date of the NWPs, they may issue 401 certification or agree with our CZM position on an interim basis followed by a final decision in a reasonable period of time. This process was initiated in 1991 and may be used again by the states, if necessary.

In the August 9, 2001, issue of the Federal Register (66 FR 42070) the Corps also announced that a public hearing for the proposed NWPs would be held on September 12, 2001. Due to the attack on the World Trade Center and the Pentagon on September 11, 2001, the hearing was postponed to September 26, 2001. Updated information regarding the public hearing was published in the September 18, 2001, Federal Register.

Dated: September 19, 2001.
Lawrence A. Lang,
Deputy, Operations Division, Directorate of Civil Works.

[FR Doc. 01-23757 Filed 9-20-01; 8:45 am]

BILLING CODE 3710-92-P